DEPARTMENT OF HEALTH AND HUMAN SERVICES

National Institutes of Health

Center for Scientific Review; Amended Notice of Meeting

Notice is hereby given of a change in the meeting of the Center for Scientific Review Advisory Council, October 31, 2012, 8:00 a.m. to October 31, 2012, 4:00 p.m., Health and Human Services Building, 5635 Fishers Lane, Rockville, MD 20852 which was published in the Federal Registeron September 26, 2012, 77 FR 59202.

The meeting will be held on December 3, 2012, from 8:00 a.m. to 4:00 p.m. The meeting location remains the same. The meeting is open to the public.

Dated: November 6, 2012.
Michelle Trout,
Program Analyst, Office of Federal Advisory Committee Policy.

[FR Doc. 2012-27585 Filed 11-13-12; 8:45 am]

BILLING CODE 4140-01-P